FEDERAL COMMUNICATIONS COMMISSION

47 CFR Part 73

[DA 06-796; MB Docket No. 02-167, RM-10479, RM-10770]

Radio Broadcasting Services; Eldorado, Fort Stockton, Mason and Mertzon, TX

AGENCY: Federal Communications Commission.

ACTION: Proposed rule; dismissal.

SUMMARY: Audio Division, at the request of Katherine Pyeatt, dismisses the petition for rule making proposing the allotment of Channel 241A at Eldorado, Texas (RM-10479). We also deny the counterproposal filed by BK Radio proposing the substitution of Channel 239C2 for Channel 240C2 at Mason, the reallotment of Channel 240C2 from Mason to Mertzon, and the modification of Station KOTY(FM)'s license accordingly (RM-10770). We find that the counterproposal does not constitute a preferential arrangement of allotments because the reallotment of Channel 240C2 to Mertzon as a third local FM transmission service would create a gray area.

FOR FURTHER INFORMATION CONTACT: Sharon P. McDonald, Media Bureau, (202) 418-2180.

SUPPLEMENTARY INFORMATION: This is a synopsis of the Commission's Report and Order, MB Docket No. 02-167, adopted April 5, 2006, and released April 7, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. This document is not subject to the Congressional Review Act. (The Commission, is, therefore, not required to submit a copy of this Report and Order to GAO, pursuant to the Congressional Review Act, see 5 U.S.C. 801(a)(1)(A) because the proposed rule was dismissed.)

List of Subjects in 47 CFR part 73

Radio, Radio broadcasting.

Federal Communications Commission.
John A. Karousos,
Assistant Chief, Audio Division, Media Bureau.

[FR Doc. E6-6296 Filed 4-25-06; 8:45 am]

BILLING CODE 6712-01-P